SURFACE TRANSPORTATION BOARD

[Docket No. FD 36323]

Arkansas-Oklahoma Railroad Company—Acquisition and Operation Exemption—State of Oklahoma

AGENCY: Surface Transportation Board.

ACTION: Notice of exemption.

SUMMARY: The Board is granting an exemption under 49 U.S.C. 10502 from the prior approval requirements of 49 U.S.C. 10902 for Arkansas-Oklahoma Railroad Company (AOK), a Class III carrier, to acquire from the State of Oklahoma and operate approximately 69.60 miles of rail line extending from milepost 295.36 in Howe, Okla., to milepost 364.96 in McAlester, Okla. (the Line).¹ Because AOK is a Class III rail carrier, the acquisition and operation exemption is not subject to labor protective conditions.

¹ AOK acquired the Line from the State of Oklahoma in April 2016 under the mistaken belief that the acquisition was already authorized by the Board. (See AOK Pet. 2.) In June 2019, AOK filed its petition for Board authority to correct its error.

DATES: This exemption will be effective on October 19, 2019. Petitions to stay must be filed by September 27, 2019. Petitions to reopen must be filed by October 9, 2019.

ADDRESSES: Pleadings may be filed with the Board either via e-filing format or in writing addressed to: Surface Transportation Board, Attn: Docket No. FD 36323, 395 E Street SW, Washington, DC 20423-0001. In addition, one copy of each pleading must be served on AOK's representative, Eric M. Hocky, Clark Hill PLC, One Commerce Square, 2005 Market Street, Suite 1000, Philadelphia, PA 19103.

FOR FURTHER INFORMATION CONTACT: Sarah Fancher at (202) 245-0355. Assistance for the hearing impaired is available through the Federal Relay Service at (800) 877-8339.

SUPPLEMENTARY INFORMATION: Additional information is contained in the Board's decision served on September 19, 2019, which is available at www.stb.gov.

Decided: September 18, 2019.
By the Board, Board Members Begeman, Fuchs, and Oberman.
Aretha Laws-Byrum,
Clearance Clerk.

[FR Doc. 2019-20634 Filed 9-23-19; 8:45 am]

BILLING CODE 4915-01-P